ENVIRONMENTAL PROTECTION AGENCY

[FRL-8026-2]

Proposed Settlement Under Section 122(h) of the Comprehensive Environmental Response, Compensation and Liability Act Regarding the CPS/Madison Superfund Site, Middlesex County, NJ

AGENCY: Environmental Protection Agency (EPA).

ACTION: Notice of proposed administrative settlement and opportunity for public comment.

SUMMARY: The United States Environmental Protection (“EPA”) is proposing to enter into an administrative settlement to resolve claims under the Comprehensive Environmental Response, Compensation and Liability Act of 1980, as amended (“CERCLA”). In accordance with section 122(h)(i)(1) of CERCLA, notice is hereby given of a proposed administrative settlement concerning the CPS/Madison Site (“the Site”). Section 122(h) of CERCLA provides EPA with the authority to consider, compromise and settle certain claims for costs incurred by the United States. Notice is being published to inform the public of the proposed settlement and of the opportunity to comment. The administrative settlement is contained in the Administrative Order on Consent for Remedial Investigation and Feasibility Study (“RI/FS”), U.S. EPA Index No. CERCLA-02-2004-2027 (the “Order”). The administrative settlement compromises $28,357.04 of EPA's past response costs incurred at the Site and provides that after Ciba Specialty Chemicals Corp. (“Ciba”) performs the RI/FS for the Site pursuant to the Order, it may apply for a credit, up to a maximum amount of $250,000.00, for the incremental cost of analyzing groundwater samples for metals in addition to other contaminants. The credit can be applied toward EPA's unreimbused response costs at the Site, should EPA attempt to recover those costs from Ciba in the future. The credit applies only to any future claim made by EPA for unreimbursed costs incurred or to be incurred by EPA concerning the Site.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th floor, New York, New York 10007-1866. Telephone: (212) 637-3111.

DATES: Comments must be provided by March 1, 2006.

ADDRESSES: Comments should be sent to the U.S. Environmental Protection Agency, Office of Regional Counsel, 290 Broadway—17th Floor, New York, NY 10007 and should refer to: In the Matter of the CPS/Madison Superfund Site, U.S. EPA Index No. CERCLA-02-2004-2027.

FOR FURTHER INFORMATION CONTACT: U.S. Environmental Protection Agency, Office of Regional Counsel, 290 Broadway—17th Floor, New York, NY 10007, (212) 637-3142.

SUPPLEMENTARY INFORMATION: A copy of the proposed administrative settlement, as well as background information relating to the settlement, may be obtained in person or by mail from Clay Monroe, U.S. Environmental Protection Agency, Office of Regional Counsel, 290 Broadway—17th Floor, New York, NY 10007. Telephone: (212) 637-3142.

Dated: December 9, 2005.
Raymond Basso,
Acting Director, Emergency and Remedial Response Division, Region 2.

[FR Doc. E6-1108 Filed 1-27-06; 8:45 am]

BILLING CODE 6560-50-P